DEPARTMENT OF DEFENSE

Office of the Secretary

[Docket ID: DOD-2010-OS-0145]

Privacy Act of 1974; System of Records

AGENCY: Department of Defense (DoD).

ACTION: Notice to add a system of records.

SUMMARY: The Office of the Secretary of Defense proposes to add a system of records to its inventory of record systems subject to the Privacy Act of 1974 (5 U.S.C. 552a), as amended.

DATES: This proposed action will be effective without further notice on November 19, 2010, unless comments are received which result in a contrary determination.

ADDRESSES: You may submit comments, identified by docket number and title, by any of the following methods:

• Federal Rulemaking Portal: http://www.regulations.gov. Follow the instructions for submitting comments.

• Mail: Federal Docket Management System Office, Room 3C843 Pentagon, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard at (703) 588-6830.

SUPPLEMENTARY INFORMATION: The Office of the Secretary of Defense notices for systems of records subject to the Privacy Act of 1974 (5 U.S.C. 552a), as amended, have been published in the Federal Register and are available from the Chief, OSD/JS Privacy Office, Freedom of Information Directorate, Washington Headquarters Services, 1155 Defense Pentagon, Washington, DC 20301-1155.

The proposed system report, as required by 5 U.S.C. 552a(r) of the Privacy Act of 1974, as amended, was submitted on October 6, 2010, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996; 61 FR 6427).

Dated: October 14, 2010.
Mitchell S. Bryman,
Alternate OSD Federal Register Liaison Officer, Department of Defense.

DPFPA 02

System Name:

Pentagon Reservation Vehicle Parking Program.

System Location:

Parking Management Branch, Pentagon Force Protection Agency, 9000 Defense Pentagon, Washington, DC 20301-9000.

Categories of Individuals Covered by the System:

All DoD Civilians, military, and contractors holding DoD parking permits, participating in DoD carpools, or are otherwise authorized to park at the Pentagon or Federal Office Building No. 2 (FOB2).

Categories of Records in the System:

Name, Social Security Number (SSN), organizational affiliation of the individual, office work number, current address, home zip code, vehicle tag number, and work e-mail address.

Authority for Maintenance of the System:

5 U.S.C. 301, Departmental Regulations; 10 U.S.C. 2674(c)(1) Operation and Control of Pentagon Reservation and Defense Facilities in National Capital Region; E.O. 12191, Federal Facility Ridesharing Program; Administrative Instruction 88, Pentagon Reservation Vehicle Parking; and E.O. 9397 (SSN), as amended.

Purpose(s):

To manage the Pentagon parking permit program for DoD military and civilian personnel applying for and in receipt of Pentagon parking permits.

Routine Uses of Records Maintained in the System, Including Categories of Users and the Purposes of Such Uses:

In addition to those disclosures generally permitted under 5 U.S.C. 552a(b) of the Privacy Act of 1974, these records or contained therein may specifically be disclosed outside the DoD as a routine use pursuant to 5 U.S.C. 552a(b)(3) as follows:

The DoD `Blanket Routine Uses' set forth at the beginning of the OSD compilation of systems of records notices apply to this system of records.

Policies and Practices for Storing, Retrieving, Accessing, Retaining, and Disposing of Records in the System:

Storage:

Paper file folders and electronic storage media.

Retrievability:

Information is retrieved by individual's name, Social Security Number (SSN), parking permit number, and vehicle tag number.

Safeguards:

Records are stored in a secured area accessible only to authorized personnel. Records are accessed by the custodian of the record system, by individuals responsible for using or servicing the system, and individuals properly screened and that have a need-to-know. Computer hardware is CAC enabled and located in controlled areas with access limited to authorized personnel.

Retention and Disposal:

Applications and parking permits are destroyed three months after returned to Pentagon Parking Office. Records are shredded.

System Manager(S) and Address:

Parking Management Branch, Pentagon Force Protection Agency, 9000 Defense Pentagon, Washington, DC 20301-9000.

Notification Procedure:

Individuals seeking to determine whether information about themselves is contained in this system should address written inquiries to the Parking Management Branch, Pentagon Force Protection Agency, 9000 Defense Pentagon, Washington, DC 20301-9000.

Written requests for information should contain the full name of the individual, Social Security Number (SSN), and current address.

Record Access Procedures:

Individuals seeking access to information about themselves contained in this system should address written inquiries to the Office of the Secretary of Defense/Joint Staff Freedom of Information Act Requester Service Center, 1155 Defense Pentagon, Washington, DC 20301-1155.

Written requests for information should contain the full name of the individual, the number of the system notice, and be signed.

Contesting Record Procedures:

The Office of the Secretary of Defense rules for accessing records, for contesting contents and appealing initial agency determinations are published in OSD Administrative Instruction 81; 32 CFR part 311; or may be obtained from the system manager.

Record Source Categories:

Individuals.

Exemptions Claimed for the System:

None.

[FR Doc. 2010-26352 Filed 10-19-10; 8:45 am]

BILLING CODE 5001-06-P